DEPARTMENT OF LABOR

Employment and Training Administration

[TA-W-38,928A]

Motorola, Inc., Personal Communications Sector, Libertyville, IL; Including Employees of Motorola, Inc., Personal Communications Sector Located in California, Florida, Indiana, Massachusetts, Michigan, Mississippi, North Carolina, New Jersey, New York, Texas and Wisconsin; Amended Certification Regarding Eligibility To Apply for Worker Adjustment Assistance

In accordance with section 223 of the Trade Act of 1974 (19 U.S.C. 2273) the Department of Labor issued a Certification of Eligibility to Apply for Worker Adjustment Assistance on July 25, 2001, applicable to workers of Motorola, Inc., Personal Communications Sector, Harvard, Illinois and Libertyville, Illinois. The notice was published in the Federal Register on August 15, 2002 (66 FR 42887).

At the request of the company, the Department reviewed the certification for workers of the subject firm. New information shows that workers separations occurred involving employees of the Libertyville, Illinois facility of Motorola's Personal Communications Sector located in California, Florida, Indiana, Massachusetts, Michigan, Mississippi, North Carolina, New Jersey, New York, Texas and Wisconsin. These employees were engaged in employment related to the production of cellular phones at the Libertyville, Illinois location of the subject firm.

Based on these findings, the Department is amending this certification to include employees of the Libertyville, Illinois location of Motorola, Inc., Personal Communication Sector located in California, Florida, Indiana, Massachusetts, Michigan, Mississippi, North Carolina, New Jersey, New York, Texas and Wisconsin.

The intent of the Department's certification is to include all workers of Motorola, Inc., Personal Communications Sector adversely affected by increased imports.

The amended notice applicable to TA-W-38,928A is hereby issued as follows:

All workers of Motorola, Inc., Personal Communication Sector, Libertyville, Illinois, including employees of Libertyville, Illinois located in California, Florida, Indiana, Massachusetts, Michigan, Mississippi, North Carolina, New Jersey, New York, Texas and Wisconsin, who became totally or partially separated from employment on or after February 14, 2000, through April 13, 2003, are eligible to apply for adjustment assistance under Section 223 of the Trade Act of 1974.

Signed at Washington, DC this 7th day of February, 2002.
Linda G. Poole,
Certifying Officer, Division of Trade Adjustment Assistance.

[FR Doc. 02-5591 Filed 3-7-02; 8:45 am]

BILLING CODE 4510-30-M